ENVIRONMENTAL PROTECTION AGENCY

40 CFR Part 52

[EPA-R03-OAR-2021-0944; FRL-9174-01-R3]

Air Plan Approval; Delaware; Control of Volatile Organic Compounds Emissions From Solvent Cleaning and Drying

AGENCY: Environmental Protection Agency (EPA).

ACTION: Proposed rule.

SUMMARY: The Environmental Protection Agency (EPA) is proposing to approve a state implementation plan (SIP) revision submitted by the State of Delaware. This revision pertains to the reduction of volatile organic compounds (VOC) emissions from cold solvent cleaning operations. This action is being taken under the Clean Air Act (CAA).

DATES: Written comments must be received on or before July 27, 2022.

ADDRESSES: Submit your comments, identified by Docket ID No. EPA-R03-OAR-2021-0944 at https://www.regulations.gov, or via email to gordon.mike@epa.gov. For comments submitted at Regulations.gov, follow the online instructions for submitting comments. Once submitted, comments cannot be edited or removed from Regulations.gov. For either manner of submission, EPA may publish any comment received to its public docket. Do not submit electronically any information you consider to be confidential business information (CBI) or other information whose disclosure is restricted by statute. Multimedia submissions (audio, video, etc.) must be accompanied by a written comment. The written comment is considered the official comment and should include discussion of all points you wish to make. EPA will generally not consider comments or comment contents located outside of the primary submission (i.e., on the web, cloud, or other file sharing system). For additional submission methods, please contact the person identified in the FOR FURTHER INFORMATION CONTACT section. For the full EPA public comment policy, information about CBI or multimedia submissions, and general guidance on making effective comments, please visit https://www.epa.gov/dockets/commenting-epa-dockets.

FOR FURTHER INFORMATION CONTACT: Mallory Moser, Planning & Implementation Branch (3AD30), Air & Radiation Division, U.S. Environmental Protection Agency, Region III, 1650 Arch Street, Philadelphia, Pennsylvania 19103. The telephone number is (215) 814-2030. Ms. Moser can also be reached via electronic mail at Moser.Mallory@epa.gov.

SUPPLEMENTARY INFORMATION: On October 13, 2021, the Delaware Department of Natural Resources and Environmental Control (DNREC) submitted a revision to its SIP which comprises revisions to Title 7 of Delaware's Administrative Code (7 DE Admin. Code) 1124 Section 33.0—Solvent Cleaning and Drying. The revision to 7 DE Admin. Code 1124 Section 33.0 will reduce emissions of VOCs from cold solvent cleaning operations, thus reducing the formation of ground-level ozone.

I. Background

The revision consists of an amendment to 7 DE Admin. Code 1124, Control of Volatile Organic Compound Emissions, Section 33—Solvent Cleaning and Drying. Specifically, the amendment updates the solvent cleaning control requirements based upon the 2012 Ozone Transport Commission (OTC) Model Rule.

The OTC, of which Delaware is a member, is an organization established by Congress under the CAA. Among other things, the OTC develops model rules for the member states to use to reduce the emissions of ground level ozone precursors. In 2001, the OTC released the 2001 Model Rule for Solvent Cleaning (2001 Model Rule). The 2001 Model Rule is the basis for the version of 7 DE Admin. Code 1124, Control of Volatile Organic Compound Emissions, Section 33—Solvent Cleaning and Drying currently in the approved Delaware SIP.¹ After a release of the control techniques guideline (CTG): Industrial Cleaning Solvents by the EPA in 2006, proposing new VOC limits for solvent cleaning, the OTC convened a group of experts that suggested a more stringent model rule than what is provided in the CTG and the 2001 Model Rule. The OTC then developed the 2012 Model Rule for Solvent Degreasing (2012 Model Rule). The provisions set forth in the 2012 Model Rule are more stringent than those currently included in the Delaware SIP and form the basis of the Delaware SIP revision we are proposing to approve in this rulemaking. This revision eliminates an existing exemption by adding provisions that apply to owners or operators of a solvent cleaning machine that uses any volume of solvent containing VOC. This revision also reduces the solvent VOC concentration from 100 percent to 25 grams per liter of non-VOC solution for most applications.

¹ See 67 FR 70315 (November 22, 2002).

Certain areas of Delaware are designated as nonattainment for ground-level ozone. Ground-level ozone is formed through the reaction of VOCs and other compounds in the air in the presence of sunlight. High levels of ground-level ozone can cause or worsen difficulty in breathing, asthma and other serious respiratory problems. In addition to improving public health and the environment, decreased emissions of VOCs, and therefore subsequently ground-level ozone, will contribute to the attainment of the ozone national ambient air quality standard (NAAQS).

By removing an applicability exemption and decreasing the allowable solvent VOC concentration, the 2012 Model Rule is expected to decrease emissions of VOCs. This reduction of VOC emissions from solvent cleaning operations will further reduce the formation of ground-ozone. Therefore, Delaware is amending their SIP to implement the updated 2012 Model Rule.

II. Summary of SIP Revision and EPA Analysis

This SIP revision, submitted by the State of Delaware on October 13, 2021, amends 7 DE Admin. Code 1124 section 33.0, Solvent Cleaning and Drying. The amendments to section 33.1 (Applicability) add provisions that apply to owners or operators of a solvent cleaning machine that uses any volume of solvent containing VOC. Therefore, the amendments eliminate the previous exemption for cold cleaning machines containing less than one liter of solvent and 5% by weight VOC. Section 33.1 also clarifies that it does not cover solvent cleaning machines that use the following hazardous air pollutants (HAPs): methylene chloride, perchloroethylene or 1,1,1-trichloroethane. Additionally, this Section adds language that clarifies the provisions do not separate VOCs into categories such as a low-vapor pressure chemical compound (LVP-VOC) or mixture.

The amendments to section 33.2 (Definitions): (1) add clarity by defining the following terms that had been used in the prior version of the regulation but which had not previously been defined: Batch cold cleaning machine, Freeboard refrigeration device, Idling mode, In-line cold cleaning machine, Lip exhaust and Solvent; and (2) modify definitions for the following: Batch vapor cleaning machine, Cold cleaning machine, Freeboard height and Remote reservoir cold cleaning machine.

Section 33.3 (Standards for batch cold cleaning machines) amendments allow cold cleaning machines to be heated below boiling and require the cold cleaning machines must remain leak free. Cold cleaning machines that are heated must have a temperature control device that will avoid overheating and prevent boiling of the cleaning solution. The amendments to section 33.3 are more stringent than the current SIP because they reduce the solvent VOC concentration from 100% to 25 grams of VOC per liter solution for most applications. Limited types of applications may use 150 grams VOC per liter of solution. A VOC content greater than 25 grams of VOC per liter, or 150 grams of VOC per liter for certain application types, may be used only with a VOC capture and control device that would control the VOC air emissions to no more than would be experienced if the cleaning solution were VOC compliant in absence of the capture and control device. These reductions in the allowed solvent VOC concentration will further reduce emissions of VOCs.

Similarly, Section 33.5 (Standards for in-line cleaning machines) reduces the VOC content concentration for cleaning solution, from 100% to no more than 25 grams of VOC per liter for cleaning standard parts and no more than 150 grams VOC for printed circuit boards. The revisions to section 33.5 are more stringent than the current SIP and will further reduce emissions of VOCs.

The amendment adds clarifying language which maintains there are no existing VOC content restrictions for the cleaning solvent used in the following: batch vapor cleaning machines, vapor in-line cleaning machines, machines not having a solvent/air interface, or vapor in-line cleaning machines under the alternative standard.

Section 33.8 (Monitoring) adds provisions for the testing of the temperature control system. Amendments to section 33.9 (Recordkeeping) require the owner or operator of a cold cleaning machine provide appropriate documentation that may be used for compliance. Section 33.10 (Reporting) adds the requirement of specific documentation when obtaining any solvent containing VOC for use in a cold cleaning machine. Section 33.11 (Test Methods) requires the VOC content of materials subject to these provisions must be determined by EPA Reference Method 24, SCAQMD Method 304, or SCAQMD Method 313. In addition, the amendments include other non-substantive administrative wording edits and corrections.

III. Proposed Action

Delaware's proposed SIP revisions to 40 CFR 52.420(c), which incorporate amendments made to 7 DE Admin. Code 1124 Section 33.0, will lower VOC concentration in solvent cleaning machines operated in Delaware and aid in reducing VOC emissions. These emissions are a cause of ground level ozone and reducing them will help Delaware and the surroundings areas to attain the ozone NAAQS. EPA has determined that this SIP revision meets the requirements of the CAA. Therefore, EPA is proposing to approve the October 13, 2021, SIP revision which sets limits on the VOC concentration of solvents that apply to all owners or operators of a solvent cleaning machines in Delaware. EPA is soliciting public comment on the issues discussed in this document. These comments will be considered before taking final action.

IV. Incorporation by Reference

In this document, EPA is proposing to include in a final EPA rule regulatory text that includes incorporation by reference. In accordance with the requirements of 1 CFR 51.5, EPA is proposing to incorporate by reference Delaware's Solvent Cleaning and Drying requirements as described in 7 DE Admin. Code 1124, Control of Volatile Organic Compound Emissions, see sections II and III of this document. EPA has made, and will continue to make, these materials generally available through https://www.regulations.gov and at the EPA Region III Office (please contact the person identified in the FOR FURTHER INFORMATION CONTACT section of this preamble for more information).

V. Statutory and Executive Order Reviews

Under the CAA, the Administrator is required to approve a SIP submission that complies with the provisions of the CAA and applicable Federal regulations. 42 U.S.C. 7410(k); 40 CFR 52.02(a). Thus, in reviewing SIP submissions, EPA's role is to approve state choices, provided that they meet the criteria of the CAA. Accordingly, this action merely approves state law as meeting Federal requirements and does not impose additional requirements beyond those imposed by state law. For that reason, this proposed action:

Accordingly, this action merely approves state law as meeting Federal requirements and does not impose additional requirements beyond those imposed by state law. For that reason, this proposed action:

• Is not a “significant regulatory action” subject to review by the Office of Management and Budget under Executive Orders 12866 (58 FR 51735, October 4, 1993) and 13563 (76 FR 3821, January 21, 2011);

• Does not impose an information collection burden under the provisions of the Paperwork Reduction Act (44 U.S.C. 3501 et seq.);

• Is certified as not having a significant economic impact on a substantial number of small entities under the Regulatory Flexibility Act (5 U.S.C. 601 et seq.);

• Does not contain any unfunded mandate or significantly or uniquely affect small governments, as described in the Unfunded Mandates Reform Act of 1995 (Pub. L. 104-4);

• Does not have Federalism implications as specified in Executive Order 13132 (64 FR 43255, August 10, 1999);

• Is not an economically significant regulatory action based on health or safety risks subject to Executive Order 13045 (62 FR 19885, April 23, 1997);

• Is not a significant regulatory action subject to Executive Order 13211 (66 FR 28355, May 22, 2001);

• Is not subject to requirements of section 12(d) of the National Technology Transfer and Advancement Act of 1995 (15 U.S.C. 272 note) because application of those requirements would be inconsistent with the CAA; and

• Does not provide EPA with the discretionary authority to address, as appropriate, disproportionate human health or environmental effects, using practicable and legally permissible methods, under Executive Order 12898 (59 FR 7629, February 16, 1994).

In addition, this proposed rule regarding VOC content used during solvent cleaning and drying in Delaware, does not have tribal implications as specified by Executive Order 13175 (65 FR 67249, November 9, 2000), because the SIP is not approved to apply in Indian country located in the State, and EPA notes that it will not impose substantial direct costs on tribal governments or preempt tribal law.

List of Subjects in 40 CFR Part 52

Environmental protection, Air pollution control, Incorporation by reference, Environmental protection, Ozone, Volatile organic compounds.

Adam Ortiz,
Regional Administrator, Region III.

[FR Doc. 2022-13661 Filed 6-24-22; 8:45 am]

BILLING CODE 6560-50-P